COMMITTEE FOR PURCHASE FROM PEOPLE WHO ARE BLIND OR SEVERELY DISABLED

Procurement List; Proposed Addition

AGENCY: Committee for Purchase From People Who Are Blind or Severely Disabled.

ACTION: Proposed addition to the Procurement List.

SUMMARY: The Committee is proposing to add a service to the Procurement List that will be provided by nonprofit agencies employing persons who are blind or have other severe disabilities.

DATES: Comments Must Be Received on or Before: 1/20/2014.

ADDRESSES: Committee for Purchase From People Who Are Blind or Severely Disabled, 1401 S. Clark Street, Suite 10800, Arlington, Virginia, 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to provide the service listed below from nonprofit agencies employing persons who are blind or have other severe disabilities.

The following service is proposed for addition to the Procurement List for provision by the nonprofit agencies listed:

Service

Service Type/Location: Base Operations Support Service, National Geospatial-Intelligence Agency, NGA Campus West, 3200 S 2nd Street, St. Louis, MO

NPAs:

ServiceSource, Inc., Alexandria, VA (Prime)

CW Resources, Inc., New Britain, CT (Subcontractor)

Contracting Activity: Dept Of Defense, National Geospatial-Intelligence Agency, Arnold, MO

Barry S. Lineback,
Director, Business Operations.

[FR Doc. 2013-30301 Filed 12-19-13; 8:45 am]

BILLING CODE 6353-01-P